DEPARTMENT OF THE INTERIOR

National Park Service

[NPS-WASO-NAGPRA-NPS0024147; PPWOCRADN0-PCU00RP14.R50000]

Notice of Inventory Completion: U.S. Fish and Wildlife Service, Alaska Region, Anchorage, AK

AGENCY: National Park Service, Interior.

ACTION: Notice.

SUMMARY: The U.S. Fish and Wildlife Service, Alaska Region, (Alaska Region USFWS), has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Alaska Region USFWS. If no additional requestors come forward, transfer of control of the human remains and associated funerary objects to the lineal descendants, Indian Tribes, or Native Hawaiian organizations stated in this notice may proceed.

DATES: Lineal descendants or representatives of any Indian Tribes or Native Hawaiian organizations, not identified in this notice that wish to request transfer of control of these human remains and associated funerary objects should submit a written request with information in support of the request to the Alaska Region USFWS at the address in this notice by December 8, 2017.

ADDRESSES: Edward J. DeCleva, Regional Historic Preservation Officer, U.S. Fish and Wildlife Service, Alaska Region, 1011 East Tudor Road, MS-235, Anchorage, AK 99503, telephone (907) 786-3399, email edward_decleva@fws.gov.

SUPPLEMENTARY INFORMATION: Notice is here given in accordance with the Native American Graves Protection and Repatriation Act (NAGPRA), 25 U.S.C. 3003, of the completion of an inventory of human remains and associated funerary objects under the control of the Alaska Region USFWS. The human remains and associated funerary objects were recovered from site 049-KOD-00083, Kodiak Island Borough, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Alaska Region USFWS professional staff in consultation with representatives of the Alutiiq Museum and Archaeological Repository of Kodiak, Alaska, acting as agent for the Alutiiq Tribe of Old Harbor (previously listed as Native Village of Old Harbor and Village of Old Harbor), Kaguyak Village, Native Village of Afognak, Native Village of Akhiok, Native Village of Larsen Bay, Native Village of Ouzinkie, Native Village of Port Lions, Sun'aq Tribe of Kodiak (previously listed as the Shoonaq' Tribe of Kodiak), and the Tangirnaq Native Village (formerly Lesnoi Village (aka Woody Island)).

History and Description of the Remains

Beginning in 1961 and continuing through 1963, human remains representing, at minimum, 23 individuals, including 17 adults (two possible males, two possible females, and 13 individuals of indeterminate sex), five sub adults, and one infant were removed from the Three Saints Bay site (049-KOD-00083) on Kodiak Island as part of the Aleut-Konyag project conducted by the University of Wisconsin-Madison, under the direction of Morgan Usadel, Donald Clark, William Workman, and Peter Storck. The collection was curated and stored at the University of Wisconsin-Madison until 2006. The U.S. Army Corps of Engineers, working with the Regional Historic Preservation Officer of the Alaska Region USFWS to determine locations of Alaskan archeological collections, located and recovered this collection, conducted a complete inventory, and returned the human remains to the Alaska Region USFWS for storage. No known individuals were identified. The 23 associated funerary objects include 19 unmodified faunal remains, 1 lot of charcoal samples, 1 carved bone figurine pin, 1 amber bead, and 1 bone buckle.

The Three Saints Bay site is a two component site, the lower component corresponds to the prehistoric late Kachemak tradition winter settlement dating to BP 2000 to 1100. The upper component consists of seven or eight log houses, warehouse, barns, bunkhouses, carpentry shop, and storage buildings of the first settlement established in North America by the Russian American Company in 1784. Five to nine burials were encountered at Three Saints Bay which, according to Donald Clark's 1970 report, exhibited burial practices that fit within the general Kachemak traditional pattern.

The present-day descendant of the Kachemak tradition is the Alutiiq Tribe of Old Harbor (previously listed as Native Village of Old Harbor and Village of Old Harbor).

Determinations Made by the Alaska Region USFWS

Officials of the Alaska Region USFWS have determined that:

• Pursuant to 25 U.S.C. 3001(9), the human remains described in this notice represent the physical remains of 23 individuals of Native American ancestry.

• Pursuant to 25 U.S.C. 3001(3)(A), the 23 associated funerary objects described in this notice are reasonably believed to have been placed with or near individual human remains at the time of death or later as part of the death rite or ceremony.

• Pursuant to 25 U.S.C. 3001(2), there is a relationship of shared group identity that can be reasonably traced between the Native American human remains and the Alutiiq Tribe of Old Harbor (previously listed as Native Village of Old Harbor and Village of Old Harbor).

Additional Requestors and Disposition

Lineal descendants or representatives of any Indian Tribe or Native Hawaiian organization not identified in this notice that wish to request transfer of control of these human remains and associated funerary objects should submit a written request with information in support of the request to Edward DeCleva, Regional Historic Preservation Officer, U.S. Fish and Wildlife Service, Alaska Region, 1011 East Tudor Road, MS-235, Anchorage, AK 99503, telephone (907) 786-3399, email edward_decleva@fws.gov, by December 8, 2017. After that date, if no additional requestors have come forward, transfer of control of the human remains and associated funerary objects to the Alutiiq Tribe of Old Harbor (previously listed as Native Village of Old Harbor and Village of Old Harbor) may proceed.

The Alaska Region, USFWS are responsible for notifying the Alutiiq Museum and Archaeological Repository of Kodiak, Alaska, acting as agent for the Alutiiq Tribe of Old Harbor (previously listed as Native Village of Old Harbor and Village of Old Harbor), Kaguyak Village, Native Village of Afognak, Native Village of Akhiok, Native Village of Larsen Bay, Native Village of Ouzinkie, Native Village of Port Lions, Sun'aq Tribe of Kodiak (previously listed as the Shoonaq' Tribe of Kodiak), Tangirnaq Native Village (formerly Lesnoi Village (aka Woody Island)) that this notice has been published.

Dated: September 14, 2017.
Melanie O'Brien,
Manager, National NAGPRA Program.

[FR Doc. 2017-24231 Filed 11-7-17; 8:45 am]

BILLING CODE 4312-52-P